DEPARTMENT OF HOMELAND SECURITY

Coast Guard

[Docket No. USCG-2012-0839]

Mobile Offshore Drilling Unit (MODU) Electrical Equipment Certification Guidance

AGENCY: Coast Guard, DHS.

ACTION: Notice of policy.

SUMMARY: The Coast Guard is providing guidance regarding electrical equipment installed in hazardous areas on foreign-flagged Mobile Offshore Drilling Units (MODUs) that have never operated, but intend to operate, on the U.S. Outer Continental Shelf (OCS). Chapter 6 of the 2009 version of the International Maritime Organization (IMO) Code for the Construction and Equipment of Mobile Offshore Drilling Units (2009 IMO MODU Code) sets forth standards for testing and certifying electrical equipment installations on MODUs. The Coast Guard is considering issuing a rule that will implement Chapter 6 of the 2009 IMO MODU Code and that will be applicable to foreign-flagged MODUs that have never operated, but intend to operate, on the U.S. OCS. In the interim, the Coast Guard recommends that owners and operators of foreign-flagged MODUs that have never operated, but intend to operate on the U.S. OCS, voluntarily comply with Chapter 6 of the 2009 IMO MODU Code.

DATES: The policy outlined in this document is effective December 3, 2012.

ADDRESSES: The documents referenced in this notice and published by the International Maritime Organization, International Electrotechnical Commission, or International Organization for Standardization are available for purchase from the publishers. For more information on where to obtain copies these documents, please call or email the Coast Guard point of contact listed in the FOR FURTHER INFORMATION CONTACT section below.

FOR FURTHER INFORMATION CONTACT: If you have questions on this notice or the policy, call or email Mr. Rodolfo Sierra, Systems Engineering Division (CG-ENG-3), (202) 372-1381, Rodolfo.N.Sierra@uscg.mil. If you have questions on viewing material in the docket, call Renee V. Wright, Program Manager, Docket Operations, telephone 202-366-9826.

SUPPLEMENTARY INFORMATION:

Background

The explosion and fire on the MODU DEEPWATER HORIZON underscored the need to address electrical equipment that may present an ignition source for gases or vapors encountered during oil drilling exploration. On September 9, 2011 the Coast Guard published the final action memo (FAM) by the Commandant on the recommendations of its investigation into the explosion, fire, sinking and loss of eleven crew members on the MODU DEEPWATER HORIZON. You may view a copy of the FAM online by going to the Coast Guard's Web site at http://uscg.mil/hq/cg5/cg545 and clicking on the Deepwater Horizon-exhibits-transcripts-video link. The FAM called for the Coast Guard to evaluate whether MODUs engaged in U.S. OCS activities should be subject to independent testing and certification of electrical equipment installations in hazardous areas. Chapter 6 of the 2009 IMO MODU Code includes this independent testing and certification standard for electrical equipment installations in hazardous areas. However, under current Coast Guard regulations for foreign MODUs (33 CFR 143.207), the Coast Guard accepts the 1979 IMO MODU Code, which provides foreign flag Administrations the flexibility to accept less stringent standards than the 2009 IMO MODU Code, relating to the testing and certification of electrical equipment installations in hazardous areas. The Coast Guard completed its evaluation and has determined that U.S. implementation of the stricter standards contained in Chapter 6 of the 2009 IMO MODU Code is warranted.

The 2009 IMO MODU Code recommends that electrical installations in hazardous areas be tested and certified in accordance with the International Electrotechnical Commission (IEC) 60079 series of standard(s). The IEC offers an international certification system called the “Certification to Standards Relating to Equipment for use in Explosive Atmospheres” (IECEx). The IECEx system requires full compliance with the applicable IEC 60079 series of standard(s), including the testing of equipment by an independent laboratory. Approval under the IECEx system involves an explosive atmospheres (Ex) Certification Body (ExCB) and an Ex Testing Laboratory (ExTL) that have been accepted into the IECEx system after meeting competency requirements established by the International Organization for Standardization (ISO)/IEC Standard 17025 and related IECEx Operational Documents and Rules of Procedure. The Ex Testing Laboratory tests the covered equipment to determine compliance with the IECEx system of standards, and drafts an IECEx Test Report (ExTR) to document the test results. The ExCB reviews the manufacturing quality assurance process and issues an IECEx Quality Assessment Report (QAR). Based on the results contained in the QAR and ExTR, the ExCB may then issue an IECEx Certificate of Conformity for the equipment.

Currently, some foreign flag Administrations do not impose the IEC 60079 series of standards, and instead accept certification under the European Commission Directive (94/9/EC) on Equipment and Protective Systems Intended for use in Potentially Explosive Atmospheres (ATEX Directive). Compliance with the ATEX Directive is mandatory for European Union member nations. The ATEX Directive is intended to ensure the certification of electrical equipment to the Essential Health and Safety Requirements given in the Directive or appropriate IEC harmonized standards, but it does not specifically require testing and certification by an independent third party lab.

The Coast Guard believes that certification of electrical equipment intended for use in hazardous areas should be tested and certified by a competent independent laboratory in the manner prescribed by Chapter 6 of the 2009 IMO MODU Code. Accordingly, the Coast Guard is considering issuing a rule to address certification and testing requirements for electrical equipment installations in hazardous areas applicable to foreign-flagged MODUs that have never operated, but intend to operate, on the U.S. OCS. Until the Coast Guard finalizes its regulations, the Coast Guard recommends that owners and operators of foreign-flagged MODUs that have never operated, but intend to operate, on the U.S. OCS voluntarily comply with Chapter 6 of the 2009 IMO MODU Code. For these foreign-flagged MODUs, the Coast Guard recommends that electrical equipment installations in hazardous areas obtain independent laboratory certification under the IECEx system, which includes the appropriate IECEx Certificate of Conformities.

The guidance contained in this notice is not a substitute for applicable legal requirements, nor is it itself a regulation. It is not intended to nor does it impose legally binding requirements on any party. It represents the Coast Guard's current thinking on this topic and may assist industry, mariners, the general public, and the Coast Guard, as well as other Federal and State regulators, in applying statutory and regulatory requirements. You can use an alternative approach if the approach satisfies the requirements of the applicable statutes and regulations.

Authority

This notice is issued under the authority of 5 U.S.C. 552(a), 43 U.S.C. 1331, et seq., and 33 CFR 1.05-1.

Dated: September 14, 2012.
J.G. Lantz,
Director of Commercial Regulations and Standards, U.S. Coast Guard.

[FR Doc. 2012-29138 Filed 11-30-12; 8:45 am]

BILLING CODE 9110-04-P